FEDERAL COMMUNICATIONS COMMISSION

Public Information Collections Approved by Office of Management and Budget

October 24, 2005.

SUMMARY: The Federal Communications Commission (FCC) has received Office of Management and Budget (OMB) approval for the following public information collections pursuant to the Paperwork Reduction Act of 1995, Public Law 104-13. An agency may not conduct or sponsor and a person is not required to respond to a collection of information unless it displays a currently valid control number.

FOR FURTHER INFORMATION CONTACT: Paul J. Laurenzano, Federal Communications Commission, 445 12th Street, SW., Washington, DC 20554, (202) 418-1359 or via the Internet at plaurenz@fcc.gov.

SUPPLEMENTARY INFORMATION: OMB Control No.: 3060-1081.

OMB Approval date: 10/14/2005.

Expiration Date: 10/31/2008.

Title: Federal-State Joint Board on Universal Service, CC Docket No. 96-45.

Form No.: N/A.

Estimated Annual Burden: 22 responses; 242 total annual burden hours; approximately 11 hours average per respondent.

Needs and Uses: In CC Docket No. 96-45, the Commission adopted additional mandatory requirements for ETC designation proceedings in which the Commission acts pursuant to section 241(e)(6) of the Communications Act of 1934, as amended. Consistent with the recommendations of the Federal-State Joint Board on Universal Service, and expanding the mandatory requirements, the Commission imposed additional requirements for designation and annual certifications. These requirements will ensure that ETCs continue to comply with the conditions of the ETC designation and that universal service funds are used for their intended purposes. Specifically, every ETC must submit, on a annual basis: (1) Progress reports on the ETC's five-year service quality improvement plan; (2) detailed information on any outage lasting at least 30 minutes; (3) the number of unfulfilled requests for service from potential customers within its service areas; (4) the number of complaints per 1,000 handsets or lines; (5) certification that the ETC is complying with applicable service quality standards and consumer protection rules; (6) certification that the ETC is able to function in emergency situations; (7) certification that the ETC is offering a local usage plan comparable to that offered by the incumbent LEC in the relevant service areas; and (8) certification that the carrier acknowledges that the Commission may require it to provide equal access to long distance carriers in the event no other ETC is providing equal access within the service area. The Commission will use the information collected to ensure that each ETC satisfies its obligation under Section 214(e) of the Communications Act of 1934, as amended, to provide services supported by the universal service mechanism throughout the areas for which each ETC is designated.

Federal Communications Commission.
Marlene H. Dortch,
Secretary.

[FR Doc. 05-21867 Filed 11-1-05; 8:45 am]

BILLING CODE 6712-01-P